SMALL BUSINESS ADMINISTRATION

[Disaster Declaration #10322 and #10323]

Texas Disaster Number TX-00097

AGENCY: U.S. Small Business Administration.

ACTION: Amendment 10.

SUMMARY: This is an amendment of the Presidential declaration of a major disaster for the State of Texas (FEMA—1624—DR), dated 1/11/2006.

Incident: Extreme Wildfire Threat.

Incident Period: 11/27/2005 through 5/14/2006.

Effective Date: 5/17/2006.

Physical Loan Application Deadline Date: 5/30/2006.

EIDL Loan Application Deadline Date: 10/11/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 1/11/2006 is hereby amended to include the following areas as adversely affected by the disaster:

Primary Counties:

Johnson

Contiguous Counties: Texas

Hill

All other information in the original declaration remains unchanged.

(Catalog of Federal Domestic Assistance Numbers 59002 and 59008)

Roger B. Garland,
Acting Associate Administrator for Disaster Assistance.

[FR Doc. E6-8344 Filed 5-30-06; 8:45 am]

BILLING CODE 8025-01-P